FEDERAL RETIREMENT THRIFT INVESTMENT BOARD

Sunshine Act; Notice of Meeting

TIME AND DATE: 9 a.m. (Eastern Time), January 25, 2011.

PLACE: 4th Floor Conference Room, 1250 H Street, NW., Washington, DC 20005.

STATUS: Parts will be open to the public and parts closed to the public.

MATTERS TO BE CONSIDERED:

Parts Open to the Public

1. Approval of the minutes of the December 13, 2010 Board member meeting

2. Thrift Savings Plan activity report by the Executive Director

a. Monthly Participant Activity Report

b. Quarterly Investment Policy Review

c. Legislative Report

3. Vendor Financials Report

4. Annual Expense Ratio Review

5. Erroneous Required Minimum Distribution Payment Report

6. TSP Investment Funds DVD Demonstration

Parts Closed to the Public

7. Confidential Financial Information

8. Personnel

CONTACT PERSON FOR MORE INFORMATION: Thomas J. Trabucco, Director, Office of External Affairs, (202) 942-1640.

Dated: January 10, 2011.
Thomas K. Emswiler,
Secretary, Federal Retirement Thrift Investment Board.

[FR Doc. 2011-719 Filed 1-11-11; 4:15 pm]

BILLING CODE 6760-01-P